NATIONAL FOUNDATION ON THE ARTS AND THE HUMANITIES

National Endowment for the Arts; President's Committee on the Arts and the Humanities: Meeting #62

Pursuant to Section 10(a)(2) of the Federal Advisory Committee Act (Pub. L. 92-463), as amended, notice is hereby given that a meeting of the President's Committee on the Arts and the Humanities (PCAH) will be held on November 15, 2007, from 2 p.m. to 5 p.m. (ending time is tentative). The meeting will be held in the Salon IIIB, The Ritz-Carlton , 1150 22nd Street, Washington, DC 20037.

The Committee meeting will begin with welcome, introductions, and announcements. Updates and discussion on recent programs and activities will follow, including a focus on PCAH's international projects. The meeting also will include a review of PCAH ongoing programming for youth arts and humanities learning, preservation and conservation, and special events. Karen Elias, Acting General Counsel, National Endowment for the Arts (NEA), will present the annual ethics briefing for members. The meeting will adjourn after discussion of other business, as necessary, and closing remarks.

The President's Committee on the Arts and the Humanities was created by Executive Order in 1982, which currently states that the “Committee shall advise, provide recommendations to, and assist the President, the National Endowment for the Arts, the National Endowment for the Humanities, and the Institute of Museum and Library Services on matters relating to the arts and the humanities.”

Any interested persons may attend as observers, on a space available basis, but seating is limited. Therefore, for this meeting, individuals wishing to attend are advised to contact Jenny Schmidt of the President's Committee seven (7) days in advance of the meeting at (202) 682-5560 or write to the Committee at 1100 Pennsylvania Avenue, NW. Suite 526, Washington, DC 20506. Further information with reference to this meeting can also be obtained from Ms. Schmidt.

If you need special accommodations due to a disability, please contact the Office of Accessability, National Endowment for the Arts, 1100 Pennsylvania Avenue, NW. Suite 724, Washington, DC 20506, (202) 682-5532, TDY-TDD (202) 682-5560, at least seven (7) days prior to the meeting.

Dated: October 26, 2007.
Kathy Plowitz-Worden,
Panel Coordinator, Panel Operations, National Endowment for the Arts.

[FR Doc. E7-21445 Filed 10-30-07; 8:45 am]

BILLING CODE 7537-01-P